DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 26, 2007 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• June 26:

• Opening Session (Welcome and Introductory Remarks, Review/Approve Summary of March 22 Meeting, Paper No. 093-07/PMC-534).

• Publication Consideration/Approval:

• Final Draft, New Document, Future Air Navigation System 1/A (FANS 1/A)—Aeronautical Telecommunications Network (ATN) Interoperability Standard, RTCA Paper No. 123-07/PMC-537, prepared by SC-189.

• Final Draft, New Document, Safety and Performance Standard for Air Traffic Data Link Services in Oceanic and Remote Airspace (Oceanic SPR Standard), RTCA Paper No. 124-07/PMC-538, prepared by SC-189.

• Final Draft, Revised DO-280A, Interoperability Requirements for ATN Baseline 1 (INTEROP ATN B1), RTCA Paper No. 125-07-PMC-539, prepared by SC-189.

• Final Draft, Change 2, to DO-290, Safety and Performance Requirements Standard for Air Traffic Data Link Services in Continental Airspace (Continental SPR Standard), RTCA Paper No. 126-07/PMC-540, prepared by SC 189.

• Final Draft, Revised DO-253A, Minimum Operational Performance Standards for GPS Local Area Augmentation System Airborne Equipment, RTCA Paper No. 127-07/PMC-541, prepared by SC-159.

• Discussion:

• Special Committee Chairman's Reports.

• Action Item Review:

• SC-147—Traffic Alert & Collision Avoidance System—Discussion.

• Revised Terms of Reference and SC-147 Status Review.

• PMC Ad Hoc Subgroup—Status Review.

• SC-203—Unmanned Aircraft Systems (UAS)—Discussion—Status Review.

• SC-205—Software Considerations—Discussion—Status Review.

• Aeronautical Systems Security—Discussion—Possible New Committee.

• EUROCAE WG-68—Altimerty—Discussion.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 31, 2007.
Francisco Estrada C.,
RTCA Advisory Committee.

[FR Doc. 07-2864 Filed 6-8-07; 8:45 am]

BILLING CODE 4910-13-M